ENVIRONMENTAL PROTECTION AGENCY

40 CFR Part 52

[EPA-R10-OAR-2015-0067; FRL-9962-99-Region 10]

Air Plan Approvals, Idaho: Logan Utah/Idaho PM2.5 Nonattainment Area

AGENCY: Environmental Protection Agency (EPA).

ACTION: Proposed rule; supplemental.

SUMMARY: The Environmental Protection Agency (EPA) is proposing to approve revisions to Idaho's State Implementation Plan (SIP) submitted in 2012 and 2014 to address Clean Air Act (CAA) requirements for the Idaho portion of the Logan, Utah-Idaho fine particulate matter (PM2.5) nonattainment area (Logan UT-ID area). Based on newly available air quality monitoring data, the EPA is proposing to approve Idaho's attainment demonstration and approve Idaho's 2014 Motor Vehicle Emissions Budgets (MVEBs) as early progress budgets. Additionally, the EPA is proposing to conditionally approve Reasonable Further Progress (RFP), Quantitative Milestones (QMs), and revised MVEBs for the Idaho portion of the nonattainment area, based on Idaho's commitment to adopt and submit updates to these attainment plan elements within one year of the effective date of our final action.

DATES: Written comments must be received on or before July 3, 2017.

ADDRESSES: Submit your comments, identified by Docket ID No. EPA-R10-OAR-2015-0067 at https://www.regulations.gov. Follow the online instructions for submitting comments. Once submitted, comments cannot be edited or removed from Regulations.gov. The EPA may publish any comment received to its public docket. Do not submit electronically any information you consider to be Confidential Business Information (CBI) or other information, the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Jeff Hunt, Air Planning Unit, Office of Air and Waste (OAW-150), Environmental Protection Agency, Region 10, 1200 Sixth Ave, Suite 900, Seattle, WA 98101; telephone number: (206) 553-0256; email address: hunt.jeff@epa.gov.

SUPPLEMENTARY INFORMATION: Throughout this document, wherever “we,” “us,” or “our” is used, it is intended to refer to the EPA.

Table of Contents

I. Background

II. Proposed Action

III. Statutory and Executive Orders Review

I. Background

On October 17, 2006, the EPA strengthened the 24-hour PM2.5 National Ambient Air Quality Standards (NAAQS) by lowering the numerical level of the NAAQS to 35 µg/m³ (71 FR 61144). Following promulgation of a new or revised NAAQS, the EPA is required by the CAA to promulgate designations for areas throughout the United States in accordance with section 107(d) of the CAA. On November 13, 2009, the EPA designated a portion of Franklin County, Idaho as part of the cross-boundary Logan UT-ID area for the 2006 24-hour PM2.5 NAAQS. This designation requires Idaho to prepare and submit an attainment plan for the Idaho portion of the nonattainment area meeting applicable statutory and regulatory requirements and providing for attainment of the 2006 24-hour PM2.5 NAAQS in the Logan UT-ID area (74 FR 58688). On December 14, 2012, the Idaho Department of Environmental Quality (IDEQ) submitted an attainment plan SIP submission developed to address attainment planning requirements for the Idaho portion of the Logan UT-ID area for the 2006 24-hour PM2.5 NAAQS. On December 24, 2014, the IDEQ submitted a supplement to the 2012 SIP submission that included revised attainment demonstration modeling intended to show that the area would meet the December 31, 2015 attainment date specified in subpart 4, part D of title I of the CAA. The 2012 SIP submittal and 2014 amendment are hereinafter referred to as the Idaho attainment plan.

In a proposed rulemaking published October 27, 2016, the EPA proposed a partial approval and partial disapproval of the Idaho attainment plan with regard to specific requirements for attainment plans for the 2006 24-hour PM2.5 NAAQS. Specifically, the EPA proposed to approve Idaho's woodstove curtailment ordinances, burn bans, heating device restrictions, and woodstove change-out programs included in the Idaho attainment plan as meeting Reasonably Available Control Measures and Reasonably Available Control Technology (RACM/RACT) requirements for the Idaho portion of the Logan, UT-ID area (81 FR 74741). The EPA proposed to disapprove the attainment demonstration, contingency measures, RFP, QM, and MVEB elements of the Idaho attainment plan for the Idaho portion of the area. On January 4, 2017, the EPA finalized the approval of the RACM/RACT measures, finalized the disapproval of the contingency measures, and deferred action on the SIP submissions with respect to the attainment demonstration, RFP, QM, and MVEB requirements (82 FR 732). These deferred attainment plan elements are addressed in this proposed action.

In a separate proposed action published December 16, 2016, pertaining to whether the Logan, UT-ID area attained the 2006 24-hour PM2.5 NAAQS, the EPA stated that the Logan, Utah Federal Reference Method (FRM) monitor relied upon for determining compliance with the PM2.5 NAAQS did not have fully complete and valid 2015 data in accordance with 40 CFR part 58 (81 FR 91088). Based upon that incomplete data, the EPA proposed to determine that the area had failed to attain the NAAQS by December 31, 2015. However, since that time, the State of Utah and the EPA have examined data from the co-located Federal Equivalent Method (FEM) continuous PM2.5 monitor in Logan, Utah, and the EPA has determined that data from this FEM monitor can be used to substitute for days without valid data at the FRM monitor in order to create a valid and complete data set for 2015.¹ This data, which is available in the docket, shows a 98th percentile value of 29 µg/m³ for 2015, meeting the “clean data” criterion for a 1-year attainment date extension.² IDEQ requested that the EPA use the discretion allowed under CAA section 188(d) to grant a 1-year extension of the Moderate area attainment date for the Logan, UT-ID area, from December 31, 2015 to December 31, 2016, and requested a second 1-year extension based on 2016 monitoring data.³ The State of Utah also requested two 1-year extensions of the Moderate area attainment date based on the validated 2015 air quality monitoring data and the newly available 2016 data.⁴ The EPA will act separately on the 1-year extension requests.

¹ See Memorandum from Joshua Rickard, “Logan Utah PM2.5 2015 Design Value,” May 8, 2017.

² See spreadsheet referred to in memorandum. This criterion is set forth in 40 CFR 51.1005(a)(ii).

³ See letters dated December 15, 2015, February 26, 2016, and April 25, 2017.

⁴ See letters dated May 1, 2017 and May 2, 2017.

The EPA's evaluation of the additional data now available for calendar year 2015 at the Logan, Utah monitors also affects the agency's prior evaluation of the Idaho attainment plan. Additionally, in a letter dated April 25, 2017, IDEQ committed to revising the Idaho attainment plan to address RFP, QM, and MVEB requirements by August 1, 2018. Based upon our evaluation of these two factors, the EPA is issuing this supplemental proposal to explain and take comment upon its revised analysis of Idaho's SIP submissions.

A. Attainment Demonstration

A key factor in our October 27, 2016 proposed disapproval of Idaho's attainment demonstration was that the 2013-2015 design value exceeded the level of the 2006 24-hour PM2.5 NAAQS and air quality data available at that time was not available to establish that the 2015 98th percentile was below the standard, as necessary to qualify for a potential 1-year attainment date extension. Therefore, the EPA proposed to disapprove the modeled attainment demonstration portion of the Idaho attainment plan which indicated that the Logan, UT-ID area would attain the NAAQS by the December 31, 2015 attainment date (81 FR 74741, at page 74744).

The EPA's subsequent evaluation of the monitoring data indicates that the Logan, UT-ID area did meet the numerical level of the 24-hour PM2.5 NAAQS in 2015, as projected in the modeled attainment demonstration portion of the Idaho attainment plan. The fact that the monitoring data confirms the State's projections in the attainment demonstration affects the EPA's evaluation of the attainment demonstration and supports a proposed approval rather than prior proposed disapproval.

In particular, the EPA's August 24, 2016, Fine Particulate Matter National Ambient Air Quality Standards: State Implementation Plan Requirements, Final Rule (PM2.5 SIP Requirements Rule) provides that a state's modeled attainment demonstration needs to establish that an area will attain the NAAQS by the projected attainment date, but for purposes of modeling a state may elect to demonstrate that the area will meet the numerical level of the NAAQS the final year (81 FR 58010, at page 58054). The EPA authorizes this approach because of the potential availability of extensions of the attainment date under relevant provisions of the CAA. In other words, if ambient data show attainment-level concentrations in the final statutory attainment year, a state may be eligible for up to two 1-year extensions of the attainment date. See 40 CFR 51.1005. Using this provision, a state may be able to attain the NAAQS by the extended attainment date, even if the measured design value for an area does not meet the NAAQS by the end of the 6th calendar year after designation. For this reason, the EPA's PM2.5 SIP Requirements Rule indicates that it is acceptable for a state to model air quality levels for the final statutory attainment year in which the area is required to attain the standard (in this case 2015).

In the Logan UT-ID area, both measured and modeled PM2.5 concentrations in 2015 were consistent with meeting the numerical level of the NAAQS in both Utah and Idaho.⁵ The EPA is therefore proposing to approve the attainment demonstration portion of the Idaho attainment plan on the basis that the attainment-level concentrations modeled for this area (based on the Idaho, Utah, and federal control measures already in place) are consistent with the updated 2015 monitoring data for the nonattainment area. We also note that the joint Idaho and Utah modeling included in Appendix D of the Idaho attainment plan followed applicable EPA modeling guidance in predicting that existing state and federal control measures to address motor vehicle, wood stove, and other emission sources would bring PM2.5 concentrations below 35 µg/m³ by 2015 in the Logan, UT-ID area. Because there is now valid and complete 2015 data confirming the projected modeling concentrations in Idaho's modeled attainment demonstration, the EPA is proposing to approve IDEQ's attainment demonstration.

⁵ The Franklin County, Idaho monitor recorded a valid 2015 98th percentile of 18.8 µg/m³. See https://www.epa.gov/air-trends/air-quality-design-values#report.

B. RFP, QMs, and MVEBs

In our October 27, 2016 action, the EPA proposed to disapprove the Idaho attainment plan with respect to the RFP and QM requirements for the 2006 24-hour PM2.5 NAAQS. The Idaho attainment plan did not address these attainment plan elements consistent with current requirements because it did not include QMs and did not include any RFP analysis or plan, other than the modeling demonstration showing attainment by 2015 due to the control measures already in place. We noted, however, that, “[i]f properly accounted for and specified in the SIP submittal, such reductions might be sufficient to provide the necessary demonstration of RFP for use in a quantitative milestones report.” See 81 FR 74741, at page 74748. In addition, the EPA proposed to disapprove the MVEBs because at the time that notice was issued, air quality data indicated the area was not attaining the standard, and therefore MVEBs could not be considered consistent with the applicable requirements for reasonable further progress and attainment. See 40 CFR 93.118(e).

Following the October 27, 2016 proposed disapproval of the Idaho attainment plan, there have been two significant developments. First, the EPA has now evaluated additional monitoring data indicating that the Logan, UT-ID area met the numerical level of the 2006 24-hour PM2.5 NAAQS in 2015. This fact affects the EPA's evaluation of the RFP, QM, and MVEB elements of the SIP submissions. Second, based on further evaluation of the issues, in an April 25, 2017 letter, the State of Idaho committed to make a SIP submission that will further address the RFP, QM, and MVEB requirements. Because the State has committed to address these requirements within one year in specific ways that the EPA considers appropriate, the EPA is now proposing a conditional approval of the Idaho attainment plan with respect to these requirements. Under section 110(k)(4) of the CAA, the EPA has authority to approve a SIP submission conditionally when a state commits to revise the submission to adopt specific enforceable measures by a date certain, but not later than one year after approval of the plan.

As discussed in the 2016 PM2.5 SIP Requirements Rule, a state's attainment plan SIP submission must include an RFP plan or analysis that includes three components: (1) An implementation schedule for control measures on sources in the nonattainment area, (2) RFP projected emissions for each applicable quantitative milestone year, including emissions reductions, based on the anticipated control measure implementation schedule; and (3) an analysis that demonstrates that this schedule of aggregate emissions reductions achieves sufficient progress toward attainment between the applicable baseline year to the attainment year. In a letter dated April 25, 2017, Idaho committed to address the required elements discussed above. Specifically, the April 25, 2017 commitment letter contains an implementation schedule for control measures on sources in the nonattainment area and projected emissions reductions resulting from that implementation schedule. Accordingly, Idaho committed in the April 25, 2017 letter to make a SIP submission that will include an RFP plan or analysis that will explain how the existing measures meet the annual RFP requirement and include appropriate QMs for the purposes of establishing that the RFP requirement is met, consistent with subpart 4 requirements.

In our October 27, 2016 proposal, the EPA noted that Idaho relied on the control measures included in the Idaho attainment plan and already approved into the SIP, in addition to the Utah control measures and ongoing motor vehicle fleet turnover with cleaner cars, to provide the emissions reductions projected to bring the area into attainment by 2015. In particular, IDEQ's modeling used the EPA's Motor Vehicle Emission Simulator (MOVES2010a) model to project emissions reductions of 43% NOX and 37% VOC between a baseline year of 2008 and the end of 2014. Idaho indicated that these projected reductions, primarily from ongoing motor vehicle fleet turnover of Idaho vehicles, would be expected to provide large and generally linear emissions reductions.⁶ Idaho regulates both NOX and VOC as precursors for purposes of the 2006 24-hour PM2.5 NAAQS in the Logan, UT-ID area, so these reductions are appropriate for purposes of the RFP requirement.

⁶ See section 5.5.2 of Idaho's 2012 SIP revision.

We noted in the proposal that, “[i]f properly accounted for and specified in the SIP submittal, such reductions might be sufficient to provide the necessary demonstration of RFP for use in a quantitative milestones report.” See 81 FR 74741, at page 74748. In response, Idaho included the following information in the April 25, 2017 commitment letter: The woodstove curtailment and burn ban ordinances were adopted and in place during the summer and fall of 2012, with estimated emission reductions of 0.06 tons per winter day (tpwd) direct PM2.5, 0.009 tpwd nitrogen oxides (NOX), and 0.078 tpwd volatile organic compounds (VOC). The woodstove change-out programs conducted in 2006-2007, 2011-2012, and 2013-2014 had already commenced and achieved sustained and quantifiable emission reductions of 8.04 tons per year (tpy) PM2.5, 0.47 tpy NOX, and 18.57 tpy VOC. In addition, the IDEQ negotiated road sanding agreements effective July 16, 2012 and October 25, 2012, with quantified emissions reductions of 0.10 tpwd direct PM2.5 in reentrained road dust emissions.⁷ Again, each of these measures are projected to attain quantifiable reductions of emissions of the relevant pollutants in the Idaho portion of the Logan, UT-ID area that Idaho could thus use to show reasonable progress towards attainment by 2015, and Idaho could use documentation of the implementation of these measures to meet the QM requirement, e.g., the QM for the first 3-year quantitative milestone period from 2014 to 2017.

⁷ See 2012 SIP submission, Appendix C, Road Dust Documentation.

With respect to QMs, the 2016 PM2.5 SIP Requirements Rule requires that the attainment plan contain quantitative milestones to be achieved by the milestone dates that provide for objective evaluation of reasonable further progress toward timely attainment. For a Moderate area plan such as that at issue in this proposed action, quantitative milestones are required for years 4.5 (year 2014) and 7.5 (year 2017) after the December 2009 effective date of designation. The 2016 PM2.5 SIP Requirements Rule states that the quantitative milestones contained in the attainment plan for a Moderate nonattainment area should be constructed such that they can be tracked, quantified and/or measured adequately in order for a state to meet its milestone reporting obligations, which are due 90 days after a given milestone date. The EPA suggested possible metrics that “support and demonstrate how the overall quantitative milestones identified for an area may be met, such as percent implementation of control strategies, percent compliance with implemented control measures, and adherence to a compliance schedule.” This list was not exclusive or exhaustive but reflected the EPA's view that the purpose of the quantitative milestone requirement is to provide an objective way to determine whether the area is making the necessary progress towards attainment by the applicable attainment date, i.e., to verify that the separate RFP requirement is met.

Idaho's April 25, 2017 commitment letter describes Idaho's plan for making a SIP submission that will include QMs in the attainment plan for the Logan, UT-ID area. This commitment presents Idaho's approach for revising the attainment plan to include a detailed implementation schedule, estimated emissions reductions, and potential 2017 QM reporting metrics for the control measures discussed above, including wood stove and open burning curtailment days, wood stove change-outs, and road sanding agreements. Idaho's proposed QMs are consistent with EPA's suggested metrics and will provide an objective way to determine whether the area is making necessary progress towards attainment. Therefore, the commitment letter demonstrates that the State will, within one year of EPA's finalization, revise the Idaho attainment plan to satisfy the QM requirement.⁸

⁸ Our confidence in Idaho's ability to expeditiously revise the Idaho attainment plan to include valid QMs is bolstered by the information the State submitted in a February 26, 2016 letter. Specifically, the February 26, 2016 letter provides a list of all woodstove and open burning curtailment days that have occurred in the Idaho portion of the Logan, UT-ID area since the program was established, along with the public outreach materials and criteria used in forecasting curtailment days. The letter also gives a listing of all woodstove change-outs conducted in the area to date and quantifies the estimated emission reductions achieved through those change-outs since 2006. Lastly, the letter details compliance with the road sanding agreements documenting the amount of sand and salt used by Franklin County Road and Bridge verifying that the local agency has met its obligations since these agreements were put in place in 2012.

Lastly, with respect to MVEBs, Idaho calculated projected 2014 emission budgets based on the former subpart 1 attainment deadline of December 2014. On April 25, 2017, Idaho requested that the EPA approve the submitted 2014 MVEBs as early progress budgets.⁹ We have concluded that the submitted budgets are consistent with making progress toward attaining the 2006 PM2.5 NAAQS by December 31, 2015, because the budgets show reduced emissions from the motor vehicle sector over time. Therefore, we are proposing approval of the submitted 2014 MVEBs as early progress budgets. We are also proposing to conditionally approve Idaho's commitment to submit MVEBs for the 2015 attainment year.

⁹ Early progress budgets for PM2.5 areas were discussed in the July 1, 2004 transportation conformity final rule. (See 69 FR 40030-1.)

II. Proposed Action

For the reasons discussed above, the EPA is proposing to approve the attainment demonstration in the Idaho attainment plan for the Idaho portion of the Logan UT-ID area. The EPA is also proposing to approve the 2014 MVEBs as early progress budgets, in that they are consistent with making progress toward attainment of the 2006 PM2.5 NAAQS by December 31, 2015. Lastly, the EPA is proposing to conditionally approve RFP, QMs, and revised MVEBs in the Idaho attainment plan, based on IDEQ's April 25, 2017 commitment to adopt and submit updated plan elements to meet these requirements. Under a conditional approval, the State must adopt and submit the specific revisions it has committed to by a date certain but not later than within one year of the EPA's finalization.¹⁰ If the EPA fully approves the submittal of the revisions specified in the commitment letter, the conditional nature of the approval would be removed and the submittal would become fully approved. If the State does not submit these revisions by a date certain within one year of final action, or if the EPA finds the State's revisions to be incomplete, or EPA disapproves the State's revisions, a conditional approval will convert to a disapproval. If any of these occur and the EPA's conditional approval converts to a disapproval, that will constitute a disapproval of a required plan element under part D of title I of the Act, which starts an 18-month clock for sanctions, see section 179(a)(2), and the two-year clock for a Federal Implementation Plan (FIP), see CAA section 110(c)(1)(B).

¹⁰ In IDEQ's April 25, 2017 commitment letter, IDEQ committed to a date certain to submit revisions by August 1, 2018, which we anticipate will be within one year of the effective date of final action.

III. Statutory and Executive Orders Review

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this action does not involve technical standards; and

• Does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 15, 2017.
Michelle L. Pirzadeh,
Acting Regional Administrator, Region 10.

[FR Doc. 2017-11226 Filed 5-31-17; 8:45 am]

BILLING CODE 6560-50-P